DEPARTMENT OF HEALTH AND HUMAN SERVICES

National Committee on Vital and Health Statistics

Pursuant to the Federal Advisory Committee Act, the Department of Health and Human Services (HHS) announces the following advisory committee meeting.

Name: National Committee on Vital and Health Statistics (NCVHS), Full Committee Meeting.

Dates and Times:

Wednesday, June 17, 2020: 10:00 a.m.-5:00 p.m. EDT

Thursday, June 18, 2020 10:00 a.m.-4:00 p.m. EDT

Place: Virtual.

Status: Open.

Purpose: At the June 17-18, 2020 meeting, the Committee will receive briefings from HHS officials, hold discussions on several health data policy topics and refine its workplan for the upcoming 12-month period.

The Subcommittee on Privacy, Confidentiality and Security will lead a discussion with the full Committee to reach consensus on plans for a project focused on data privacy and security protections related to current public health surveillance activities.

The Subcommittee on Standards will provide updates on plans for the upcoming August hearing intended to solicit information about the costs and benefits of a new operating rule for connectivity and operating rules for the prior authorization transaction proposed by the Council for Affordable Quality Healthcare (CAQH), Committee on Operating Rules for Information Exchange (CORE) Board. The Subcommittee also will provide an update on progress of the Office of the National Coordinator (ONC) Health Information Technology Advisory Committee (HITAC) Task Force on Intersection of Clinical and Administrative Data (ICAD), on which four NCVHS members participate. The Committee will initiate a discussion of the NCVHS 14th Report to Congress, including a proposed approach, major themes, and timeline including reflection on previous reports to Congress for context.

The Committee has invited presentations from the HHS Office of the Assistant Secretary for Planning and Evaluation, Science and Data Policy Division, the National Center for Health Statistics (NCHS), and CDC's Deputy Director for Public Health Science and Surveillance (DDPHSS), to inform Committee discussion of the data landscape transformed by the COVID-19 epidemic. The Committee also has invited CMS's Division of National Standards to provide an update on its activities and plans. On the afternoon of the second day, members will consider and discuss priorities for Committee focus and revise the Committee workplan based on information presented during the meeting.

A public comment period will be offered on the second day. Meeting times and topics are subject to change. Please refer to the posted agenda for any updates.

For Further Information Contact: Substantive program information may be obtained from Rebecca Hines, MHS, Executive Secretary, NCVHS, National Center for Health Statistics, Centers for Disease Control and Prevention, 3311 Toledo Road, Hyattsville, Maryland 20782, telephone (301) 458-4715. Summaries of meetings and a roster of Committee members are available on the home page of the NCVHS website: ncvhs.hhs.gov, where further information including an agenda and instructions to access the broadcast of the meeting will also be posted.

Should you require reasonable accommodation, please contact the CDC Office of Equal Employment Opportunity on (770) 488-3210 as soon as possible.

Sharon Arnold,
Associate Deputy Assistant Secretary for Planning and Evaluation, Science and Data Policy, Office of the Assistant Secretary for Planning and Evaluation.

[FR Doc. 2020-12236 Filed 6-4-20; 8:45 am]

BILLING CODE 4150-05-P